FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Web site (http://www.fmc.gov) or contacting the Office of Agreements at (202)-523-5793 or tradeanalysis@fmc.gov.

Agreement No.: 011834-005.

Title: Maersk Line/Hapag-Lloyd Mediterranean U.S. Slot Charter Agreement.

Parties: A.P. Moller Maersk A/S and Hapag-Lloyd AG.

Filing Party: Wayne R. Rohde, Esq.; Sher & Blackwell LLP; 1850 M Street NW.; Suite 900; Washington, DC 20036.

Synopsis: The amendment would delete the U.S. Gulf Coast and the Eastern Mediterranean from the geographic scope of the Agreement, adds Malta to the scope, adjusts the amount of space being chartered, revises the duration of the Agreement, and makes other miscellaneous changes in the Agreement.

Agreement No.: 012062.

Title: “K” Line, PIL and WHS Transpacific Charter Agreement.

Parties: Kawasaki Kisen Kaisha, Ltd. (“K” Line); Pacific International Lines (PTE) Ltd. (“PIL”); and Wan Hai Lines (Singapore) PTE. Ltd. (“WHS”).

Filing Party: John P. Meade; Vice President-Law; “K” Line America, Inc.; 8730 Stony Point Parkway, Suite 400; Richmond, VA 23235.

Synopsis: The agreement authorizes the parties to share vessel space on an ad hoc basis in the trade between the United States and ports in Japan, Korea, and People's Republic of China, Hong Kong, Taiwan, and Republic of Singapore.

Agreement No.: 012063.

Title: Grand Alliance/Zim Transpacific Vessel Sharing Agreement.

Parties: Hapag-Lloyd Aktiengesellschaft; Nippon Yusen Kaisha; Orient Overseas Container Line Limited; and Zim Integrated Shipping Services Limited (ZIM).

Filing Party: Wayne R. Rohde, Esq.; Sher & Blackwell LLP; 1850 M Street, NW., Suite 900; Washington, DC 20036.

Synopsis: The agreement authorizes the parties to share vessel in the trade between ports on the Pacific Coast of United States and ports in South Korea, People's Republic of China, Hong Kong, Taiwan, Thailand, Singapore, and Japan.

Agreement No.: 201143-009.

Title: West Coast MTO Agreement.

Parties: APM Terminals Pacific, Ltd.; California United Terminals, Inc.; Eagle Marine Services, Ltd.; International Transportation Service, Inc.; Long Beach Container Terminal, Inc.; Seaside Transportation Service LLC; Trans Pacific Container Service Corporation; Total Terminals LLC; West Basin Container Terminal LLC; Yusen Terminals, Inc.; Pacific Maritime Services, L.L.C.; and SSA Terminal (Long Beach), LLC.

Filing Party: Wayne R. Rohde, Esq.; Sher & Blackwell LLP; 1850 M Street, NW.; Suite 900; Washington, DC 20036.

Synopsis: The amendment would add Husky Terminal and Stevedoring, Olympic Container Terminal, Pierce County Terminal, SSA Terminals (Oakland), LLC, SSA Terminals (Seattle), LLC, Transbay Container Terminal, Inc., and Washington United Terminals, as parties to the Agreement, and correct the names and addresses of some of the existing members.

By Order of the Federal Maritime Commission.
Dated: February 27, 2009.
Karen V. Gregory,
Secretary.

[FR Doc. E9-4589 Filed 3-3-09; 8:45 am]

BILLING CODE 6730-01-P